DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of August 19, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Escambia County, Florida and Incorporated Areas
Docket Nos.: FEMA-B-2152 and B-2423
City of Pensacola | Inspection Services, 222 West Main Street, Pensacola, FL 32502.
Pensacola Beach-Santa Rosa Island Authority | Pensacola Beach-Santa Rosa Island Authority Administrative Offices, 1 Via de Luna Drive, Pensacola Beach, FL 32561.
Town of Century | Planning and Zoning, 7995 North Century Boulevard, Century, FL 32535.
Unincorporated Areas of Escambia County | Escambia County Development Services Department, 3363 West Park Place, Pensacola, FL 32505.
Tift County, Georgia and Incorporated Areas
Docket No.: FEMA-B-2422
City of Omega | City Hall, 5518 North Alabama Avenue, Omega, GA 31775.
City of Tifton | City Hall, 130 1st Street East, Tifton, GA 31794.
City of Ty Ty | City Hall, 141 East Elman Street, Ty Ty, GA 31795.
Unincorporated Areas of Tift County | Tift County Office, 225 North Tift Avenue, Building D, Tifton, GA 31794.
Turner County, Georgia and Incorporated Areas
Docket No.: B-2420
City of Ashburn | City Hall, 259 East Washington Avenue, Ashburn, GA 31714.
City of Sycamore | City Hall, 39 East Willis Street, Sycamore, GA 31790.
Unincorporated Areas of Turner County | Turner County Courthouse Annex, 208 East College Avenue, Ashburn, GA 31714.
Worth County, Georgia and Incorporated Areas
Docket No.: B-2420
City of Poulan | City Hall, 204 Hunton Street Southwest, Poulan, GA 31781.
City of Sylvester | Community Development, 102 South Main Street, Sylvester, GA 31791.
Town of Sumner | Town Hall, 706 Walnut Street, Sumner, GA 31789.
Unincorporated Areas of Worth County | Worth County Building and Zoning, 204 East Franklin Street, Suite 16, Sylvester, GA 31791.
Granite County, Montana and Incorporated Areas
Docket No.: FEMA-B-2428
Town of Drummond | Town Hall, 114 A Street, Drummond, MT 59832.
Unincorporated Areas of Granite County | Granite County Courthouse, 220 North Sansome Street, Philipsburg, MT 59858.
Morris County, New Jersey (All Jurisdictions)
Docket No.: FEMA-B-2421
Borough of Butler | Borough Municipal Building, 1 Ace Road, Butler, NJ 07405.
Borough of Kinnelon | Borough Municipal Building, 130 Kinnelon Road, Kinnelon, NJ 07405.
Borough of Lincoln Park | Borough Hall, 34 Chapel Hill Road, Lincoln Park, NJ 07035.
Borough of Riverdale | Borough Municipal Building, 91 Newark-Pompton Turnpike, Riverdale, NJ 07457.
Township of East Hanover | Township Municipal Building, Construction Department, 411 Ridgedale Avenue, East Hanover, NJ 07936.
Township of Montville | Township Municipal Building, Engineering Department, 195 Changebridge Road, Montville, NJ 07045.
Township of Parsippany-Troy Hills | Parsippany-Troy Hills Township Hall, 1001 Parsippany Boulevard, Parsippany, NJ 07054.
Township of Pequannock | Pequannock Township Department of Public Works, 99 Alexander Avenue, Pompton Plains, NJ 07444.
Monroe County, Illinois and Incorporated Areas)
Docket No.: FEMA-B-2345
City of Columbia | City Hall, 208 South Rapp Avenue, Columbia, IL 62236.
City of Waterloo | City Hall, 100 West Fourth Street, Waterloo, IL 62298.
Unincorporated Areas of Monroe County | Monroe County Courthouse, 100 South Main Street, Waterloo, IL 62298.
Village of Fults | Village Hall, 180 Church Street, Fults, IL 62244.
Village of Maeystown | Village Hall, 1030 Mill Street, Maeystown, IL 62256.
Village of Valmeyer | Village Hall, 260 Knobloch Boulevard, Valmeyer, IL 62295.

[FR Doc. 2025-05869 Filed 4-3-25; 8:45 am]

BILLING CODE 9110-12-P